DEPARTMENT OF HEALTH AND HUMAN SERVICES

Centers for Medicare & Medicaid Services

[CMS-4071-N2]

Medicare Program; Listening Sessions on Performance Measures for Public Reporting on the Quality of Hospital Care During April, May, and June 2004

AGENCY: Centers for Medicare & Medicaid Services (CMS), HHS.

ACTION: Notice of meeting.

SUMMARY: This notice announces dates and locations for five listening sessions to be held in various sites throughout the country to focus discussion on the next steps in the development of an expanded set of performance measures for public reporting on the quality of hospital care. Health care consumers, payers, plans, providers, purchasers, and other interested parties are invited to attend these sessions to present their individual views. The opinions and alternatives provided during these sessions will assist us in our collaboration with the National Voluntary Hospital Reporting Initiative, as well as in our other hospital quality reporting and improvement efforts. Attendance at the listening session is free and open to the public, but advance registration is strongly encouraged.

DATES: Session Dates: The dates, time, and location of the five listening sessions are as follows:

Tuesday, April 27, 2004 Time: 9 a.m. to 12 p.m. Location: Boston, MA. Site: Hilton Hotel-Logan Airport: 85 Terminal Road, Boston, MA 02128. Phone: (617) 568-6700. The notice announcing the April 27, 2004 Listening Session was previously published in the March 26, 2004 Federal Register (69 FR 15884).

Monday, May 17, 2004 Time: 1 p.m. to 5 p.m. Location: Orlando, FL. Site: Holiday Inn Hotel and Suites at Universal Orlando, 5905 Kirkman Road, Orlando, FL 32819. Phone: (407) 351-3333.

Tuesday, June 8, 2004 Time: 1 p.m. to 5 p.m. Location: Dallas, TX. Site: Cooper Guest Lodge, 12230 Preston Road, Dallas, TX 75230. Phone: (972)-386-0306.

Monday, June 14, 2004 Time: 1 p.m. to 5 p.m. Location: San Francisco, CA. Site: San Francisco Airport Marriott, 1800 Old Bayshore Highway, Burlingame, CA 94010. Phone: (650) 692-9100.

Monday, June 28, 2004 Time: 1 p.m. to 5 p.m. Location: Chicago, IL. Site: Oak Brook Marriott, 1401 West 22nd Street, Oak Brook, IL 60523. Phone: (630) 573-8555.

Comment Deadline: We must receive written comments by July 30, 2004.

ADDRESSES: We will accept written comments or other statements, not to exceed three single-spaced, typed pages received by July 30, 2004. Send written comments, or other statements via mail to Lisa Lang, Centers for Medicare & Medicaid Services, Quality Measurement and Health Assessment Group, Mailstop S3-24-14, 7500 Security Boulevard, Baltimore, Maryland 21244-1850; or via email to llang@cms.hhs.gov.

FOR FURTHER INFORMATION CONTACT: Lisa Lang, (410) 786-1182. You may also send inquiries via email to llang@cms.hhs.gov.

SUPPLEMENTARY INFORMATION:

I. Background

In December 2002, the American Hospital Association (AHA), the Federation of American Hospitals (FAH), and the Association of American Medical Colleges (AAMC) joined the Joint Commission on Accreditation of Healthcare Organizations (JCAHO) and CMS in the development of the National Voluntary Hospital Reporting Initiative (NVHRI), a voluntary initiative to collect and report hospital quality performance information. This collaboration expanded to include the National Quality Forum (NQF), Agency for Healthcare Research and Quality (AHRQ), American Medical Association (AMA), Consumer-Purchaser Disclosure Project, American Association of Retired Persons (AARP), American Federation of Labor-Congress of Industrial Organizations (AFL-CIO), and other external stakeholders. The collaborators support this initiative as the beginning of an ongoing effort to make hospital performance information more accessible to the public, payers, and providers of care and to stimulate the adoption of quality improvement strategies. As part of the NVHRI, hospitals across the country are currently voluntarily reporting a “starter set” of 10 clinical performance measures for three clinical conditions (heart attack, heart failure, and pneumonia) on the CMS website (http://www.cms.hhs.gov).

In furtherance of this effort, we intend to engage the broad stakeholder community to identify its wishes for what should be included in an expanded set of measures for hospital public reporting. With input from the public and private sectors and from consumers, we will identify a set of measures that are both robust and of high priority to these stakeholders. We are working closely with our collaborators in the NVHRI on this effort, and we will be joined in hosting several of the sessions by various collaborators, as well as local providers, purchasers, and consumer organizations.

The discussion at the listening sessions will draw upon, but not be limited to, priority areas for clinical quality performance measurement identified by the National Quality Forum, the Institute of Medicine, and others. We anticipate that these listening sessions will help identify priority areas for assessing clinical quality of care—some of which have performance measures that are ready for the immediate next phase of public reporting, and others in which measures will need refinement or final testing. We also expect that some areas of interest will require additional research and development. After reviewing the set of measures determined to be appropriate for public reporting, we will ask the National Quality Forum to formally consider any measures that it has not yet endorsed.

The listening sessions are a key element of the CMS Hospital Quality Initiative. The Hospital Quality Initiative uses a variety of tools to stimulate and support significant improvement in hospital care quality. The initiative aims to refine and standardize hospital data, data transmission, and performance measures to construct a quality of care measurement set for hospitals that is robust, prioritized, and widely used. Our ultimate goal is that all private and public purchasers, oversight and accrediting entities, payers, and providers of hospital care would voluntarily use the same measures in their public reporting activities.

Through the listening sessions, we expect to be able to identify a robust and comprehensive measure set for hospital public reporting, and thereby support the efforts of the NVHRI, as well as the CMS Quality Improvement Organization (QIO) program and other CMS hospital quality improvement and reporting efforts. The listening sessions will provide a unique opportunity to consult with a broad and diverse set of public and private stakeholders to assess the face validity and demand for measures to be proposed for the next and subsequent expansions of the current public reporting activity.

In advance of the meeting, participants may wish to consult the CMS Hospital Quality Initiative Website (http://www.cms.hhs. gov/quality/hospital) to learn more about the NVHRI and other activities related to the CMS Hospital Quality Initiative. Participants may also wish to review relevant reports of the National Quality Forum (such as “National Voluntary Consensus Standards for Hospital Care: An Initial Performance Measure Set” and “Reaching the Tipping Point: Measuring and Reporting Quality Using the NQF-Endorsed Hospital Care Measures”) and the Institute of Medicine (such as “Priority Areas for National Action Transforming Health Care Quality”). These reports are available on those organizations' websites.

More detailed information about this project and subsequent listening sessions, the Hospital Quality Initiative, the NVHRI, and other related activities may be found on our website at (http://www.cms.hhs.gov/quality/hospital/).

In the March 26, 2004 Federal Register (69 FR 15884), we published a notice announcing the April 27, 2004 listening session. In that notice, we stated that we would publish a subsequent notice announcing the dates and locations for the remaining listening sessions in the series.

II. Listening Session Format

We anticipate that the format for each listening session will be similar. First, we will describe our current activities related to public reporting of hospital quality measures, including the NVHRI. The next portion of the meeting will be reserved for a panel discussion and comments from key local stakeholders concerning public reporting activities and quality performance priorities. The last portion of the meeting will be reserved for comments, questions, and feedback from interested parties in attendance. Sessions in Orlando, FL., Dallas, TX., San Francisco, CA., and Chicago, IL. may also afford opportunities for smaller, more focused discussions of particular topics. To obtain the agenda for a particular listening session, please consult (http://www.cms.hhs.gov/quality/hospital).

Time for participants to ask questions or offer comments will be limited according to the number of registered participants. Individuals who wish to offer comments need not indicate their interest in advance, but they should register for and attend the meeting.

We are interested in a national public dialogue on public reporting of hospital care performance beyond the ten measures currently included in the NVHRI. We believe that an active discussion will help us clearly identify the complementary and competing priorities and concerns of the various stakeholders interested in public reporting. Therefore, we are providing an opportunity for those who are unable to attend the listening sessions in person to submit written comments to one of the addresses listed in the ADDRESSES section of this notice by July 30, 2004. We will not be able to respond personally to the written comments received. However, summaries of each listening session and written comments received will be posted on the CMS website at (http://www.cms.hhs.gov/quality/hospital).

III. Registration Instructions

The New York State Quality Improvement Organization, IPRO, is coordinating registration for all listening sessions. There is no registration fee to attend any of the sessions. You may register online by visiting the IPRO website at (http://www.ipro.org), or you may call 1-800-852-3685, ext. 258. You will receive a registration confirmation.

(Catalog of Federal Domestic Assistance Program No. 93.773, Medicare—Hospital Insurance; and Program No. 93.774, Medicare—Supplementary Medical Insurance Program)

Dated: April 15, 2004.
Mark B. McClellan,
Administrator, Centers for Medicare & Medicaid Services.

[FR Doc. 04-8994 Filed 4-22-04; 8:45 am]

BILLING CODE 4120-01-P